NATIONAL SCIENCE FOUNDATION

Request for Information—Partnerships in Ocean Science and Technology

AGENCY: National Science Foundation.

ACTION: Notice of Request for Information on opportunities and constraints to building and sustaining partnerships in ocean science and technology.

SUMMARY: The National Science Foundation (NSF), on behalf of the Office of Science and Technology Policy (OSTP), requests input from all interested parties on opportunities for and constraints on building and sustaining partnerships in ocean science and technology (S&T). The public input provided in response to this Request for Information (RFI) will inform OSTP as it works with the Council on Environmental Quality (CEQ), Federal agencies, and other stakeholders to identify opportunities to build and sustain partnerships in ocean science and technology.

DATES: Interested persons are invited to submit comments on or before March 19, 2020.

ADDRESSES: Responses should be submitted via email to oceansummit@ostp.eop.gov. Include “Partnerships in Ocean Science and Technology” in the subject line of the message.

Instructions: Response to this RFI is voluntary. Respondents need not reply to all questions listed. For submissions via email, clearly indicate which questions are being answered. Email attachments will be accepted in plain text, Microsoft Word, or Adobe PDF formats only. Each individual or institution is requested to submit only one response. OSTP may post responses to this RFI, without change, on a Federal website. OSTP, therefore, requests that no business proprietary information, copyrighted information, or personally identifiable information be submitted in response to this RFI. Please note that the U.S. Government will not pay for response preparation, or for the use of any information contained in the response.

FOR FURTHER INFORMATION CONTACT: Deerin Babb-Brott, OSTP, Deerin_S_Babb-Brott2@ostp.eop.gov, 202-456-4444.

SUPPLEMENTARY INFORMATION: In 2018, the Trump Administration issued Science and Technology for America's Oceans: A Decadal Vision (Decadal Vision), which identified five goals to advance U.S. ocean S&T in the coming decade, including: (1) Understand the ocean in the earth system; (2) promote economic prosperity; (3) ensure maritime security; (4) safeguard human health; and (5) develop resilient coastal communities. The Decadal Vision also described areas of immediate ocean research and technology opportunities, including (1) fully integrating Big Data approaches in Earth system science; (2) advancing monitoring and predictive modeling capabilities; (3) improving data integration in decision-support tools; (4) supporting ocean exploration and characterization; and (5) supporting ongoing research and technology partnerships.

On November 14, 2019, OSTP and CEQ hosted The White House Summit on Partnerships in Ocean Science and Technology (Ocean S&T Summit). The Ocean S&T Summit brought together over 100 leaders and experts from philanthropy, the private sector, academia, and the Federal government to identify opportunities for S&T partnerships that advance the goals framed by the Decadal Vision. The Ocean S&T Summit addressed the following specific themes: (1) Exploring the Ocean; (2) Conserving Marine Living Resources; (3) Protecting Coastal Health and Safety; (4) Sustaining Ocean Observations; (5) Promoting Food Security; (6) Enabling Ocean Energy; (7) Characterizing Ocean Life; and (8) Leveraging Big Data. A summary of the Ocean S&T Summit is available at: https://www.whitehouse.gov/wp-content/uploads/2019/11/Ocean-ST-Summit-Readout-Final.pdf.

OSTP is soliciting public input through this RFI to obtain information from a wide range of stakeholders, including academia, private sector, philanthropy, and other relevant organizations and institutions, in order to inform OSTP and CEQ as they prepare to identify these opportunities and develop recommendations for collaboration across the ocean S&T enterprise.

Questions To Inform Development of the Recommendations

Through this RFI, OSTP seeks responses to the following questions to identify opportunities and inform development of recommendations that will address opportunities and barriers to partnerships in ocean science and technology across and among academia, private industry, philanthropy, and government sectors.

1. Please describe opportunities for cross-sector partnerships and collaborations in ocean S&T where the Federal government's participation or facilitation could advance the development and application of ocean S&T. The term “partnership” is defined broadly to include all Federal mechanisms available to engage, collaborate, and exchange resources, among other activities, with non-Federal organizations.

2. Please identify existing effective cross-sector partnerships in ocean S&T and the characteristics that cause them to be successful. Please specify what kinds of institutions (including the Federal government) are involved and describe their roles.

3. Please describe opportunities for the Federal government to strengthen or facilitate existing ocean S&T partnerships in the private, nonprofit, and other sectors. In what specific types of partnerships should they play a larger role and why?

4. Executive Order 13840, titled, Ocean Policy to Advance the Economic, Security, and Environmental Interests of the United States, highlights and supports Federal participation in projects conducted under the National Oceanographic Partnership Program (www.nopp.org) to maximize the effectiveness of agency investments in ocean research. Please describe opportunities to enhance utilization of the program by both Federal agencies and non-Federal partners.

5. Please describe existing barriers or constraints that limit opportunities for cross-sector partnerships in ocean S&T, including barriers limiting partnerships with the Federal government. Barriers or constraints may include legal authorities, regulatory, policy, cultural, lack of expertise, or other procedural hurdles that limit or prevent partnership opportunities.

Dated: February 11, 2020.
Suzanne H. Plimpton,
Reports Clearance Officer, National Science Foundation.

[FR Doc. 2020-03071 Filed 2-14-20; 8:45 am]

BILLING CODE 7555-01-P